NUCLEAR REGULATORY COMMISSION

10 CFR Part 50

[Docket Nos. PRM-50-101; NRC-2011-0189]

Petition for Rulemaking Submitted by the Natural Resources Defense Council, Inc.

AGENCY: Nuclear Regulatory Commission.

ACTION: Petition for rulemaking; consideration in the rulemaking process.

SUMMARY: The U.S. Nuclear Regulatory Commission (NRC or the Commission) will consider the issues raised in the petition for rulemaking (PRM), PRM-50-101, submitted by the Natural Resources Defense Council, Inc. (NRDC or the petitioner), in the rulemaking process. The petitioner requests that the NRC amend its regulations to require each operating and new reactor licensee to establish station blackout (SBO) mitigation strategies and resources. The NRC determined that the issues raised in the PRM are appropriate for consideration and will consider them in the planned “Station Blackout” rulemaking.

DATES: The docket for the petition for rulemaking, PRM-50-101, is closed on March 21, 2012.

ADDRESSES: Further NRC action on the issues raised by this petition will be accessible on the Federal rulemaking Web site, http://www.regulations.gov, by searching on Docket ID NRC-2011-0299, which is the rulemaking docket for the planned SBO rulemaking.

You can access publicly available documents related to the petition using the following methods:

• NRC's Public Document Room (PDR): The public may examine and have copied, for a fee, publicly available documents at the NRC's PDR, O1-F21, One White Flint North, 11555 Rockville Pike, Rockville, Maryland 20852.

• NRC's Agencywide Documents Access and Management System (ADAMS):

Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by email to PDR.Resource@nrc.gov.

• Federal Rulemaking Web Site: Supporting materials related to this petition can be found at http://www.regulations.gov by searching on the Docket IDs for PRM-50-101 and the planned SBO rulemaking, NRC-2011-0189 and NRC-2011-0299, respectively. Address questions about NRC dockets to Carol Gallagher, telephone: 301-492-3668; email: Carol.Gallagher@nrc.gov.

FOR FURTHER INFORMATION CONTACT: Tim Reed, Office of Nuclear Reactor Regulation, U.S. Nuclear Regulatory Commission, Washington, DC 20555; telephone: 301-415-1462; email: Timothy.Reed@nrc.gov; or Scott Sloan, Office of Nuclear Reactor Regulation, U.S. Nuclear Regulatory Commission, Washington, DC 20555; telephone: 301-415-1619; email: Scott.Sloan@nrc.gov.

SUPPLEMENTARY INFORMATION:

The Petition

On September 20, 2011, the NRC published a notice of receipt (76 FR 58165) of six PRMs filed by the NRDC, including PRM-50-101. The petitioner solely and specifically cited the “Recommendations for Enhancing Reactor Safety in the 21st Century: The Near-Term Task Force Review of Insights from the Fukushima Dai-ichi Accident” (Fukushima Task Force Report, ADAMS Accession No. ML111861807), dated July 12, 2011, as the rationale for the PRMs. For PRM-50-101, the petitioner cites Section 4.2.1, pages 32-39, of the Fukushima Task Force Report, regarding the enhancement of the ability of nuclear power plants to deal with the effect of prolonged SBO conditions at single and multiunit sites without damage to the nuclear fuel in the reactor or spent fuel pool and without the loss of reactor coolant system or primary containment integrity. At the time of receipt of the PRMs, the Commission was still in the process of reviewing the Fukushima Task Force Report, and the NRC did not institute a public comment period for the PRMs.

In PRM-50-101, the petitioner requests the NRC to institute a rulemaking proceeding applicable to nuclear facilities licensed under Title 10 of the Code of Federal Regulations (10 CFR) parts 50, 52, and other applicable regulations to revise 10 CFR 50.63 to require each operating and new reactor licensee to (1) establish a minimum coping time of 8 hours for a loss of all alternating current (AC) power, (2) establish the equipment, procedures, and training necessary to implement an “extended loss of all AC” coping time of 72 hours for core and spent fuel cooling and for reactor coolant system and primary containment integrity as needed, and (3) preplan and prestage offsite resources to support uninterrupted core and spent fuel pool cooling and reactor cooling and reactor coolant system and containment integrity as needed, including the ability to deliver the equipment to the site in the time period allowed for extending coping, under conditions involving significant degradation of offsite transportation infrastructure associated with significant natural disasters.

Reasons for Consideration

The Commission has established a process for addressing a number of the recommendations in the Fukushima Task Force Report, and the NRC determined that the issues raised in PRM-50-101 are appropriate for consideration and will consider them in the planned SBO rulemaking based on Section 4.2.1 of the Fukushima Task Force Report (Recommendation 4.1). The public will have the opportunity to provide comments on the issues raised by the petitioner in PRM-50-101 as part of the SBO rulemaking. The NRC will consider the issues raised by the remaining NRDC PRMs through the process the Commission establishes for addressing the remaining recommendations in the Fukushima Task Force Report. This PRM docket is closed.

Dated at Rockville, Maryland, this 12th day of March 2012.
For the Nuclear Regulatory Commission.
R.W. Borchardt,
Executive Director for Operations.

[FR Doc. 2012-6843 Filed 3-20-12; 8:45 am]

BILLING CODE 7590-01-P